DEPARTMENT OF ENERGY

Federal Energy Regulatory Commission

[ Docket No. AD12-12-000]

Coordination Between Natural Gas and Electricity Markets; Notice of Technical Conference

Take notice that the Federal Energy Regulatory Commission (Commission) staff will hold a technical conference focused on natural gas and electric scheduling, and issues related to whether and how natural gas and electric industry schedules could be harmonized in order to achieve the most efficient scheduling systems for both industries. The technical conference will take place on April 25, 2013 beginning at 9:00 a.m. and ending at approximately 5:00 p.m. The conference will be held at the Federal Energy Regulatory Commission, 888 First Street NE., Washington, DC 20426. All interested persons are invited to attend the conference. Commission members may participate in the conference.

Following a series of regional technical conferences conducted in August 2012, the Commission issued an order directing further conferences and reports in the above captioned docket on November 15, 2012.¹ In the November 15 Order, the Commission noted that while its current regulations and policies provide flexibility in the near-term for utilities to address coordinated scheduling issues on a regional basis and for pipelines to provide enhanced scheduling opportunities, there are broader questions regarding whether industry-wide changes to scheduling practices and capacity release rules would be necessary or appropriate to achieve long-term gas-electric harmonization, address seams issues across regional markets, or promote a more efficient utilization of existing pipeline capacity. The Commission also noted the questions raised relating to whether new flexible pipeline services and additional nomination opportunities as developed by industry will result in more efficient utilization of pipeline capacity.

¹ Coordination between Natural Gas and Electricity Markets, 141 FERC ¶ 61,125, at P 11 (2012) (November 15 Order).

The conference will explore whether and how to achieve more efficient scheduling practices for the two industries. The conference will consider whether changes should be made to provide additional scheduling flexibility, including suggestions raised by stakeholders such as whether to increase the number of nomination opportunities, eliminate or change the interruptible “no-bump” rule, and/or provide enhanced ability for customers to schedule real-time gas transfers/sales or intraday capacity release transactions. The conference also will explore coordination of gas and electric scheduling, including: whether the establishment of a single “energy day” is desired and would be beneficial and how the scheduling leading up to that day could be efficiently sequenced; how to manage difficulties scheduling gas in the evenings and for weekends and holidays; whether it is preferable for electric scheduling to be done before or after gas and transportation scheduling; and whether technological advances permit a reduction in the time between the electric bid or pipeline nomination and when they are scheduled. Lastly, the conference also will explore whether these suggestions or any other options would allow for more efficient use of existing infrastructure by both gas generators and other customers.

Those interested in speaking at the technical conference should notify the Commission by March 15, 2013 by completing the online form at the following Web page: https://www.ferc.gov/whats-new/registration/nat-gas-elec-mkts-speaker-form-04-25-13.asp. Due to time constraints, we may not be able to accommodate all those interested in speaking. A supplemental notice also will be issued prior to the technical conference to provide information about the agenda and organization of the technical conference. Those interested in attending the technical conference are encouraged, but not required, to register at the following Web page: https://www.ferc.gov/whats-new/registration/nat-gas-elec-mkts-form-04-25-13.asp.

The technical conference will not be transcribed. However, there will be a free webcast of the conference. The webcast will allow persons to listen to the technical conference, but not participate. Anyone with Internet access who wants to listen to the conference can do so by navigating to www.ferc.gov's Calendar of Events and locating the technical conference in the Calendar. The technical conference will contain a link to its webcast. The Capitol Connection provides technical support for the webcast and offers the option of listening to the meeting via phone-bridge for a fee. If you have any questions, visit www.CapitolConnection.org or call 703-993-3100.²

² The webcast will continue to be available on the Calendar of Events on the Commission's Web site www.ferc.gov for three months after the conference.

Notice is also hereby given that the discussions at the conference may address matters at issue in the following Commission proceeding(s) that are either pending or within their rehearing period: ISO New England Inc., Docket No. ER13-895-000.

Information on the technical conference will also be posted on the Web site http://www.ferc.gov/industries/electric/indus-act/electric-coord.asp, as well as the Calendar of Events on the Commission's Web site, http://www.ferc.gov, prior to the conference.

Commission conferences are accessible under section 508 of the Rehabilitation Act of 1973. For accessibility accommodations, please send an email to accessibility@ferc.gov or call toll free (866) 208-3372 (voice) or (202) 208-1659 (TTY), or send a FAX to (202) 208-2106 with the required accommodations.

For more information about the technical conference, please contact:

Elizabeth Topping (Technical Information), Office of Energy Policy and Innovation, Federal Energy Regulatory Commission, 888 First Street NE., Washington, DC 20426, (202) 502-6731, Elizabeth.Topping@ferc.gov.

Anna Fernandez (Legal Information), Office of General Counsel, Federal Energy Regulatory Commission, 888 First Street NE., Washington, DC 20426, (202) 502-6682, Anna.Fernandez@ferc.gov.

Sarah McKinley (Logistical Information), Office of External Affairs, Federal Energy Regulatory Commission, 888 First Street NE., Washington, DC 20426, (202) 502-8004, Sarah.McKinley@ferc.gov.

Dated: March 5, 2013.
Kimberly D. Bose,
Secretary.

[FR Doc. 2013-05626 Filed 3-11-13; 8:45 am]

BILLING CODE 6717-01-P